DEPARTMENT OF ENERGY

Federal Energy Regulatory Commission

[Docket Nos. RP00-474-002, RP01-17-005]

Maritimes & Northeast Pipeline, L.L.C.; Notice of Compliance Filing

August 12, 2002.

Take notice that on August 2, 2002, Maritimes & Northeast Pipeline, L.L.C. (Maritimes), tendered for filing as part of its FERC Gas Tariff, First Revised Volume No. 1, the revised tariff sheets listed in Appendix A to the filing.

Maritimes states that the purpose of this filing is to comply with the Commission's July 3, 2002 Order on Compliance Filing in the captioned proceeding.

Maritimes states that copies of its filing have been mailed to all parties on the official service lists compiled by the Secretary of the Commission in these proceedings.

Any person desiring to protest said filing should file a protest with the Federal Energy Regulatory Commission, 888 First Street, NE., Washington, DC 20426, in accordance with Section 385.211 of the Commission's Rules and Regulations. All such protests must be filed on or before August 19, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 208-1659. Comments, protests and interventions may be filed electronically via the Internet in lieu of paper. The Commission strongly encourage electronic filings. See, 18 CFR 385.2001(a)(1)(iii) and the instructions on the Commission's Web site under the “e-Filing” link.

Linwood A. Watson, Jr.,
Deputy Secretary.

[FR Doc. 02-20835 Filed 8-15-02; 8:45 am]

BILLING CODE 6717-01-P